DEPARTMENT OF AGRICULTURE

Natural Resources Conservation Service

[Docket No. NRCS-2025-0105]

Notice of Intent To Prepare an Environmental Impact Statement for the St. Johns Watershed Project in Mississippi, New Madrid, and Scott Counties, Missouri

AGENCY: Natural Resources Conservation Service, U.S. Department of Agriculture (USDA).

ACTION: Notice of intent (NOI) to prepare an environmental impact statement; notice of public meeting.

SUMMARY: The Natural Resource Conservation Service (NRCS) Missouri State Office announces its intent to prepare an Environmental Impact Statement (EIS) for the St. Johns Watershed plan, located within the Lower North Cut Ditch, Sikeston Ridge—St. Johns Ditch, Maple Slough Ditch, Ash Ditch—St. Johns Ditch, and St. Johns Ditch—St. Johns Bayou Watershed in Mississippi, New Madrid, and Scott Counties, Missouri. The project area involves the St. Johns Bayou and St. James Ditches and adjacent lands on the west landward side of the setback levee to the watershed outlet at Mississippi River floodgates near New Madrid, Missouri. Closure of the Mississippi River floodgates prevents flood damage from the river at flood stage; however, when closed, it blocks the outlet of the watershed and causes flooding from impounded interior runoff. Residences, agricultural land, and developed land are impacted. NRCS is requesting that interested individuals, Federal and State agencies, and Tribes participate in the scoping process for the EIS by attending the initial public scoping meeting and by submitting comments as described below. The goal of scoping is for NRCS to obtain input on identifying significant issues, potential alternatives, information, and analyses relevant to the proposed action.

DATES: Initial Public Scoping Meeting Date—August 14, 2025, 6:30 p.m. Comments—We invite you to submit comments in response to this notice. Please submit comments by September 12, 2025.

ADDRESSES: The initial public scoping meeting will be held at 127 E Main Street, East Prairie, Missouri 63845.

We invite you to submit comments in response to this notice. You may submit your comments through one of the methods below:

• Federal eRulemaking Portal: Go to http://www.regulations.gov and search for Docket ID NRCS-2025-0105. Follow the online instructions for submitting comments; or

• Agency Website: https://www.nrcs.usda.gov/programs-initiatives/watershed-programs/missouri/watershed-programs-mo. Follow the instructions for sending comments on the St. Johns EIS; or

• Mail: USDA-NRCS Assistant State Conservationist for Water Resources and Easements, 601 Business Loop 70 West, Suite 250, Columbia, Missouri 65203. Specify St. Johns EIS in your correspondence; or

• Hand-Deliver or Courier: Natural Resources Specialist, Butler County USDA Service Center, 4327 Highway 67 North, Poplar Bluff, MO 63901. Specify St Johns EIS in your correspondence.

All substantive comments received will be posted without change and made publicly available on the agency website or on www.regulations.gov based on method received, including any personal information provided.

FOR FURTHER INFORMATION CONTACT: Andy Rackers P.E. State Conservation Engineer, telephone: (573) 876-9376; email: Andrew.rackers@usda.gov. Specify the St. Johns EIS in your inquiry.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose of the proposed action is to develop measures that will prevent or reduce damage from flooding caused by degradation of the St. Johns Bayou Ditch and closure of the Mississippi River floodgates. The EIS is needed to address a range of issues caused by flooding, including property damage, reduced agricultural productivity and income, the socioeconomic impacts of traffic disruptions, delays in emergency response, and loss of life. Sedimentation of drainage canals is one contributing factor to the degradation that reduces the drainage capacity of the canals and contributes to flooding. This degradation leaves the surrounding area vulnerable to flooding that affects agricultural production, results in community isolation, and damaged transportation infrastructure. Excessive floodwater, created when the watershed outlet is closed, also compounds additional degradation of the regional drainage system, road infrastructure, and creates community hardship. Drainage water management is essential to the vitality of the region.

The EIS will develop and evaluate potential measures for addressing the range of issues caused by flooding. The EIS will be prepared as required by section 102(2)(C) of the National Environmental Policy Act of 1969 (NEPA) and NRCS regulations in 7 CFR Subtitle A Part 1b (7 CFR 1b).

The sponsoring local organizations (SLOs) for this project are St. Johns Levee and Drainage District (SJLDD) and St. Johns Bayou Basin Drainage District (SJBBDD). The drainage districts are granted authority under State of Missouri Title XV, Chapter 242 to organize, appoint a board, and levy taxes for improvements to drainage district infrastructure to benefit public health, convenience, and welfare of the local population.

Preliminary Proposed Action and Alternatives, Including No Action

The EIS will identify and evaluate all reasonable alternatives that include a range of measures to address the impacts of flooding caused by degradation of the drainage canal system and backwater flooding that occurs when the Mississippi River flood gates are closed. The EIS is expected to evaluate four alternatives: three action alternatives and one no-action alternative. The action alternatives, along with other scenarios, were evaluated in a 2023 Preliminary Investigation Feasibility Report conducted for NRCS for the NRCS Watershed Operations Program. Additionally, Alternative 3 was studied by the U.S. Army Corps of Engineers (USACE) through the development of an EIS in 2013; this alternative was determined to be feasible and to meet environmental scrutiny at the time of evaluation. The action alternatives may not be mutually exclusive and may not be limited to the preliminary alternatives described here, depending on public and agency input. The alternatives identified for preliminary consideration include the following:

Alternative 1—No Action Alternative: This alternative represents what would happen if no Federal assistance or funding were provided. In the No-Action Alternative, the existing degradation of drainage canals would not be addressed. Backwater flooding when the Mississippi River floodgates are closed would continue to occur. Flooding of agricultural land, roads, and communities would continue, and the local community would continue to face the risk of property damage, negative socioeconomic impacts, and public safety issues.

Alternative 2—Proposed Action—Cleanout of Dry Run Ditch: The proposed action would include restoring degraded areas of Dry Run Ditch to the flow capacity as originally designed and installing drop pipes where head cuts from the adjacent agricultural fields are present. Sedimentation from gully erosion would be reduced, and flow capacity of the drainage canal would be improved. Potential locations and extents of the canal cleanout will be evaluated during the EIS process.

Alternative 3—Proposed Action—Construct flood control measures at the St. Johns Bayou Basin: The proposed action would include channel modification and the installation of a 1,000-cubic feet per second (cfs) pumping station east of the existing outlet at the lower extent of St. Johns Bayou. Channel modification would include widening St. Johns Bayou on both banks from the outlet near New Madrid to the north approximately 4.5 miles, widening 8 miles of the Setback Levee Ditch on one bank, and widening 3.5 miles of St. James Ditch on one bank. Embankment dimensions would be designed to minimize erosion and allow for efficient water conveyance. Channel modification would improve drainage efficiency and installation of a pumping station at the watershed outlet would allow for the draw-down of floodwaters within the watershed when the Mississippi River floodgates are closed when the river is at flood stage. Potential cleanout methods and locations will be evaluated during the EIS process and would include the impacts of any channel, wetland, or habitat modifications.

Alternative 4—Proposed Action—Growing flood-resistant crops and planting native grasses and forbs along drainage canals: The proposed action would include establishing native grass and forb buffers to reduce erosion, improve streambank stability, trap sediments from adjacent land, and improve wildlife habitat. Additionally, crops that are more tolerant of flooding in areas that are particularly vulnerable to flooding would be grown to reduce economic impacts on farmers. Potential specific locations for native grass and forb buffers will be evaluated during the EIS process.

Summary of Expected Impacts

The natural resources and aspects of the human environment to be identified and addressed for potential impacts in the EIS include soils, farmland, erosion, surface and groundwater quality and quantity, wetlands, waterways, floodplains, air quality, endangered and threatened species, fish and wildlife habitats, migratory birds, riparian areas, invasive species, cultural and historic resources, socioeconomics, public health and safety, and transportation, among others.

The natural resources and aspects of the human environment that have more potential than others to be impacted—whether positively or negatively—include the socioeconomics of agricultural production and for landowners, wooded areas of drainage canals that may provide habitat for endangered bats, and the ecosystem services provided by floodplains, wetlands, and riparian areas. The full list of concerns to be addressed for impacts will be developed through public scoping, agency consultations, and other components of the EIS process.

Anticipated Permits and Authorizations

The following permits and authorizations, among others, will be evaluated for relevance to this project:

• Federal Emergency Management Agency, Floodplain Development Permit. Implementation of the proposed action will require coordination with the local floodplain administrator and may require a Floodplain Development Permit to ensure all development and engineering requirements for construction within the Special Flood Hazard Areas are implemented.

• Clean Water Act (CWA) and National Pollutant Discharge Elimination System (NPDES). The project will require water quality certification under section 401 of the CWA, NPDES permitting under section 402 of the CWA, and section 404 of the CWA for potential impacts to wetlands.

• Missouri State 401 Water Quality Certification. The Missouri State 401 Water Quality certification will be required from the Missouri Department of Natural Resources if a US Army Corps of Engineers (USACE) individual permit is required. If the work is accomplished under USACE Nationwide Permits, then a programmatic Clean Water Section 401 certification may be granted, which specifies pre-established conditions.

• National Historic Preservation Act (NHPA) Section 106. Consultation with Tribal Nations and interested parties will be conducted as required by the NHPA.

• Endangered Species Act (ESA) Section 7. Consultation with the U.S. Fish and Wildlife Service will be conducted if needed based on ESA requirements.

Schedule of Decision-Making Process

Following the initial public scoping meeting and comment period described above, NRCS will prepare a Draft EIS (DEIS) and circulate it for review and comment by agencies, Tribes, consulting parties, and the public for 45 days.

Changes resulting from the DEIS public comments will be incorporated into the Final EIS, to be published within 24 months after publication of this NOI. A Record of Decision will be completed and will be publicly available. The Responsible Federal Official and decision-maker for NRCS is the Missouri State Conservationist.

Public Scoping Process

In addition to the initial public scoping meeting and comment period described above, NRCS and the SLOs are planning to hold a second public meeting during preparation of the DEIS to provide an opportunity to review and comment on the alternatives that are developed. This second meeting will also be an opportunity to express concern or support and to gain further information regarding the proposed action.

NRCS will coordinate the scoping process to correspond with Section 106 of the NHPA (54 U.S.C. 306108) as allowed in 36 CFR 800.2(d)(3) and 800.8.

Comments received, including the names and addresses of those who commented, will become part of the public record. Scoping meeting presentation materials will be available for review and comment for 30 days following the meeting.

Identification of Potential Alternatives, Information, and Analyses

NRCS invites agencies, Tribes, consulting parties, and individuals that have special expertise, legal jurisdiction, or interest in the St. Johns Watershed project to provide written comments concerning the scope of the analysis and identification of potential alternatives, information, and analyses relevant to the proposed project.

The information about historic and cultural resources within the area potentially affected by the proposed project will assist NRCS in identifying and evaluating impacts to such resources in the context of both NEPA and NHPA.

NRCS will consult with Native American Tribes on a government-to-government basis in accordance with the regulations in 36 CFR 800.2 and 800.3, Executive Order 13175, and other policies. Tribal concerns, including impacts on Indian trust assets and potential impacts to cultural resources and historic properties, will be given due consideration.

Authorities

Watershed planning is authorized under the Watershed Protection and Flood Prevention Act of 1954 (Pub. L. 83-566), as amended, and the Flood Control Act of 1944 (Pub. L. 78-534).

Federal Assistance Programs

The title and number of the Federal Assistance Program as found in the Assistance Listing,¹ to which this document applies is 10.904, Watershed Protection and Flood Prevention.

¹ See https://sam.gov/content/assistance-listings.

Executive Order 12372

E.O. 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This program is subject to the provisions of Executive Order 12372, which requires intergovernmental consultation with State and local officials.

Nathan Goodrich,
Acting Missouri State Conservationist, Natural Resources Conservation Service.

[FR Doc. 2025-15345 Filed 8-12-25; 8:45 am]

BILLING CODE 3410-16-P